OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: M. Lamary, Group Manager, Executive Resources Services Group, Center for Human Resources, Division for Human Capital Leadership and Merit System Accountability, 202-606-2246.

SUPPLEMENTARY INFORMATION: Appearing in the listing below are the individual authorities established under Schedules A, B, and C between September 1, 2008, and September 30, 2008. Future notices will be published on the fourth Tuesday of each month, or as soon as possible thereafter. A consolidated listing of all authorities as of September 30 is published each year.

Schedule A

No Schedule A appointments were approved for September 2008.

Schedule B

No Schedule B appointments were approved for September 2008.

Schedule C

The following Schedule C appointments were approved during September 2008.

Section 213.3303 Executive Office of the President

Office of Management and Budget

BOGS80009 Staff Assistant to the Deputy Director for Management. Effective September 04, 2008.

BOGS80007 Confidential Assistant to the Administrator, E-Government and Information Technology. Effective September 09, 2008.

BOGS60011 Deputy General Counsel to the General Counsel. Effective September 15, 2008.

BOGS80012 Director of Communications to the Director Office of Management and Budget. Effective September 30, 2008.

Office of National Drug Control Policy

QQGS80015 Public Affairs Specialist to the Associate Director for Public Affairs. Effective September 04, 2008.

Section 213.3303 Office of Science and Technology Policy

TSGS80002 Confidential Assistant to the Director to the Chief of Staff and General Counsel. Effective September 12, 2008.

Section 213.3304 Department of State

DSGS69754 Staff Assistant to the Deputy Assistant Secretary. Effective September 15, 2008.

Section 213.3306 Department of Defense

DDGS17170 Special Assistant to the Assistant Secretary of Defense (Legislative Affairs). Effective September 05, 2008.

Section 213.3307 Department of the Army

DWGS00098 Personal and Confidential Assistant (Installations and Environment) to the Deputy Assistant Secretary of the Army for Privatization and Partnerships. Effective September 26, 2008.

Section 213.3310 Department of Justice

DJGS00381 Senior Counsel to the Director, Office of Public Affairs. Effective September 02, 2008.

DJGS00156 Counsel and Chief of Staff to the Assistant Attorney General (Legislative Affairs). Effective September 18, 2008.

DJGS00157 Counsel to the Assistant Attorney General. Effective September 23, 2008.

DJGS00096 Counsel to the Chief of Staff. Effective September 26, 2008.

Section 213.3311 Department of Homeland Security

DMGS00730 Counselor to the Deputy Secretary of the Department of Homeland Security. Effective September 04, 2008.

Section 213.3313 Department of Agriculture

DAGS00944 Staff Assistant to the Administrator. Effective September 12, 2008.

Section 213.3314 Department of Commerce

DCGS00268 Executive Assistant to the Chief of Staff. Effective September 12, 2008.

DCGS00465 Confidential Assistant to the Director, Office of White House Liaison. Effective September 12, 2008.

DCGS60393 Legislative Affairs Specialist to the Assistant Secretary for Legislative and Intergovernmental Affairs. Effective September 12, 2008.

DCGS00653 Deputy Director, Office of Public Affairs to the Director of Public Affairs. Effective September 18, 2008.

DCGS60494 Press Secretary to the Director of Public Affairs. Effective September 18, 2008.

Section 213.3315 Department of Labor

DLGS60045 Staff Assistant to the Assistant Secretary for Public Affairs. Effective September 09, 2008.

Section 213.3316 Department of Health and Human Services

DHGS60529 Confidential Assistant to the Deputy Secretary, Health and Human Services. Effective September 04, 2008.

DHGS60542 Confidential Assistant to the Administrator Centers for Medicare and Medicaid Services. Effective September 18, 2008.

Section 213.3317 Department of Education

DBGS00671 Chief of Staff to the Assistant Deputy Secretary for Innovation and Improvement. Effective September 11, 2008.

Section 213.3318 Environmental Protection Agency

EPGS08008 Program Manager (Scheduling) to the Deputy Chief of Staff (Operations). Effective September 02, 2008.

EPGS07003 Deputy of Advance to the Director of Advance. Effective September 26, 2008.

Section 213.3325 United States Tax Court

JCGS60051 Chambers Administrator to the Chief Judge. Effective September 09, 2008.

Section 213.3337 General Services Administration

GSGS60127 Associate Administrator for Small Business Utilization to the Administrator. Effective September 11, 2008.

GSGS00176 Director of Intergovernmental Affairs to the Associate Administrator for Congressional and Intergovernmental Affairs. Effective September 12, 2008.

GSGS00175 Public Affairs Advisor to the Administrator. Effective September 26, 2008.

GSGS60113 Special Assistant to the Regional Administrator Region 1 Boston. Effective September 30, 2008.

Section 213.3341 National Labor Relations Board

NLGS06872 Attorney-Adviser (Labor) (Executive Assistant to the Chairman) to the Chairman. Effective September 08, 2008.

Section 213.3348 National Aeronautics and Space Administration

NNGS01770 Congressional/Legislative Liaison Specialist to the Assistant Administrator for Legislative Affairs and Intergovernmental Affairs. Effective September 18, 2008.

NNGS00174 Congressional Relations Specialist to the Assistant Administrator for Legislative Affairs and Intergovernmental Affairs. Effective September 23, 2008.

NNGS05171 Director, Outreach and Intergovernmental Affairs Division to the Assistant Administrator for Legislative Affairs and Intergovernmental Affairs. Effective September 25, 2008.

NNGS05172 Director, Office of Communications Planning to the Chief of Strategic Communications. Effective September 26, 2008.

Section 213.3382 National Endowment for the Humanities

NHGS80077 Associate Chairman for External Affairs to the Chairman. Effective September 26, 2008.

Section 213.3384 Department of Housing and Urban Development

DUGS60036 Special Assistant to the Assistant Secretary for Community Planning and Development. Effective September 02, 2008.

DUGS60177 Deputy Assistant Secretary for Legislative Affairs to the Assistant Secretary for Congressional and Intergovernmental Relations. Effective September 08, 2008.

DUGS60120 Media Outreach Specialist to the General Deputy Assistant Secretary for Public Affairs. Effective September 09, 2008.

Authority: 5 U.S.C. 3301 and 3302; E.O. 10577, 3 CFR 1954-1958 Comp., p. 218.

U.S. Office of Personnel Management.
Howard Weizmann,
Deputy Director.

[FR Doc. E8-26219 Filed 11-3-08; 8:45 am]

BILLING CODE 6325-39-P